DEPARTMENT OF DEFENSE

Department of the Army

Armed Forces Institute of Pathology Scientific Advisory Board

AGENCY: Department of the Army, DoD.

ACTION: Notice of open meeting.

SUMMARY: In accordance with 10(a)(2) of the Federal Advisory Committee Act (Pub. L. 92-463) announcement is made of the following open meeting:

Name of Committee: Scientific Advisory Board (SAB).

Dates of Meeting: November 14-15, 2002.

Place: The Armed Forces Institute of Pathology (AFIP), Building 54, 14th St. & Alaska Ave., NW., Washington, DC 20306-6000.

Time: 8 a.m.-5 p.m. (November 14, 2002). 8:30 a.m.-12 p.m. (November 15, 2002).

FOR FURTHER INFORMATION CONTACT: Mr. Ridgely Rabold, Center for Advanced Pathology (CAP), AFIP Building 54, Washington, DC 20306-6000, phone (202) 782-2553.

SUPPLEMENTARY INFORMATION: General function of the board: The SAB provides scientific and professional advice and guidance on programs, policies and procedures of the AFIP.

Agenda: The Board will hear status reports from the AFIP Director, Principal Deputy Director, CAP Director, Director of the National Museum of Health and Medicine, and each of the pathology sub-specialty departments, which the Board members will visit during the meeting.

Open board discussions: Reports will be presented on all visited departments. The reports will consist of findings, recommended areas of further research, and suggested solutions. New trends and/or technologies will be discussed and goals established. The meeting is open to the public.

Ridgely L. Rabold,
Executive Secretary, Scientific Advisory Board.

[FR Doc. 02-18854 Filed 7-24-02; 8:45 am]

BILLING CODE 3710-08-M